DEPARTMENT OF COMMERCE

International Trade Administration

[A-570-814]

Certain Carbon Steel Butt-Weld Pipe Fittings From the People's Republic of China: Preliminary Results of Covered Merchandise Inquiry

AGENCY: Enforcement and Compliance, International Trade Administration, Department of Commerce.

SUMMARY: In response to a covered merchandise referral by U.S. Customs and Border Protection (CBP), the U.S. Department of Commerce (Commerce) preliminarily determines that certain carbon steel butt-weld pipe fittings (butt-weld pipe fittings) exported from Vietnam to the United States that were produced using rough fittings from China are not subject to the scope of the antidumping (AD) order. Additionally, Commerce preliminarily determines that butt-weld pipe fittings exported from Vietnam to the United States that were produced using unfinished fittings from China are subject to the scope of the AD order.

DATES: Applicable June 23, 2023.

FOR FURTHER INFORMATION CONTACT: Miranda Bourdeau, AD/CVD Operations Office V, Enforcement and Compliance, International Trade Administration, U.S. Department of Commerce, 1401 Constitution Avenue NW, Washington, DC 20230; telephone: (202) 482-2021.

SUPPLEMENTARY INFORMATION:

Background

On September 26, 2022, Commerce published in the Federal Register a notice of a covered merchandise referral and the initiation of a covered merchandise inquiry to determine whether: (1) Chinese-origin unfinished fittings that only underwent the final stage of three production stages (i.e., finishing processes) in Vietnam are within the scope of the Order; and (2) whether Chinese-origin rough fittings that underwent both the second and third stages of production in Vietnam are within the scope of the Order.¹ For a complete description of the events that followed the initiation of this inquiry, see the Preliminary Decision Memorandum.² A list of topics included in the Preliminary Decision Memorandum is included in the appendix to this notice. The Preliminary Decision Memorandum is a public document and is on file electronically via Enforcement and Compliance's Antidumping and Countervailing Duty Centralized Electronic Service System (ACCESS). ACCESS is available to registered users at https://access.trade.gov. In addition, the Preliminary Decision Memorandum can be accessed directly at https://access.trade.gov/public/FRNoticesListLayout.aspx.

¹ See Certain Carbon Steel Butt-Weld Pipe Fittings from the People's Republic of China: Notice of Covered Merchandise Referral and Initiation of Covered Merchandise Inquiry, 87 FR 58310 (September 26, 2022) (Initiation Notice); see also Antidumping Duty Order and Amendment to the Final Determination of Sales at Less Than Fair Value; Certain Carbon Steel Butt-Weld Pipe Fittings from the People's Republic of China, 57 FR 29702 (July 6, 1992) (Order).

² See Memorandum, “Certain Carbon Steel Butt-Weld Pipe Fittings from the People's Republic of China: Decision Memorandum for the Preliminary Results of Covered Merchandise Inquiry—EAPA Inv. 7335,” dated concurrently with, and hereby adopted by, this notice (Preliminary Decision Memorandum).

Scope of the Order

The merchandise covered by the Order is unfinished and finished butt-weld pipe fittings. For a complete description of the scope of the Order, see the Preliminary Decision Memorandum.

Merchandise Subject to the Covered Merchandise Inquiry

The products subject to this inquiry are rough and unfinished fittings originating in China and processed into butt-weld pipe fittings through two production scenarios in Vietnam. The two production scenarios are:

• Scenario 1: Chinese-origin unfinished butt-weld pipe fittings undergo the final stage (i.e., finishing processes) of three production stages in Vietnam;

• Scenario 2: Chinese-origin rough butt-weld pipe fittings undergo the second and third stages of production in Vietnam.

Methodology

Commerce is conducting this covered merchandise inquiry in accordance with section 517 of the Tariff Act of 1930, as amended (the Act) and 19 CFR 351.227. For a full description of the methodology underlying Commerce's preliminary results, see the Preliminary Decision Memorandum.

Preliminary Findings

We preliminarily determine, pursuant to 19 CFR 351.227(f), that rough butt-weld pipe fittings from China that are processed in Vietnam into finished butt-weld pipe fittings in the final two stages of production are not subject to the scope of the Order. Additionally, we preliminarily find that unfinished butt-weld pipe fittings from China that are processed in Vietnam into finished butt-weld pipe fittings are subject to the scope of the Order. For a full description of the methodology underlying our conclusions, see the Preliminary Decision Memorandum.

Suspension of Liquidation

As stated above, Commerce has made a preliminary affirmative finding that unfinished butt-weld pipe fittings originating from China and finished in Vietnam are subject to the scope of the Order. This affirmative in-scope finding applies on a country-wide basis, regardless of the producer, exporter, or importer, to all products from the same country with the same relevant physical characteristics as the products at issue. Therefore, in accordance with 19 CFR 351.227(l)(2), Commerce will direct CBP to: (1) continue the suspension of liquidation of previously suspended entries and apply the applicable AD cash deposit rate; (2) begin the suspension of liquidation and require a cash deposit of estimated antidumping duties, at the applicable rate, for each unliquidated entry of the product not yet suspended, entered, or withdrawn from warehouse, for consumption on or after September 26, 2022, the date of publication of the notice of initiation of this covered merchandise inquiry in the Federal Register; and (3) begin the suspension of liquidation and require a cash deposit of estimated duties, at the applicable rate, for each unliquidated entry of the product not yet suspended, entered, or withdrawn from warehouse, for consumption prior to September 26, 2022.³

³ See Initiation Notice.

Public Comment

Case briefs or other written comments may be submitted to the Assistant Secretary for Enforcement and Compliance. Pursuant to 19 CFR 351.227(d)(3), interested parties may submit case briefs no later than five days after the date of publication of this notice. Rebuttal briefs, limited to issues raised in the case briefs, may be filed not later than three days after the date of filing for case briefs.⁴ Parties who submit case briefs or rebuttal briefs in this proceeding are requested to submit with each argument: (1) a statement of the issue; (2) a brief summary of the argument; and (3) a table of authorities.⁵ Executive summaries should be limited to five pages total, including footnotes.⁶ All submissions, with limited exceptions, must be filed electronically using ACCESS.⁷ Comments must be received successfully in their entirety by ACCESS by 5:00 p.m. Eastern Time on the due date. Note that Commerce has temporarily modified certain of its requirements for serving documents containing business proprietary information, until further notice.⁸ Each submission must be placed on the record of the segment of the proceeding for the AD order (A-570-814), ACCESS Covered Merchandise Inquiry segment “CBP EAPA Inv. 7335.”

⁴ See 19 CFR 351.227(d)(3); see also Temporary Rule Modifying AD/CVD Service Requirements Due to COVID-19; Extension of Effective Period, 85 FR 41363 (July 10, 2020) (Temporary Rule).

⁵ See 19 CFR 351.309(c)(2) and (d)(2).

⁶ Id.

⁷ See 19 CFR 351.303.

⁸ See Temporary Rule.

Pursuant to 19 CFR 351.310(c), interested parties who wish to request a hearing, limited to issues raised in the case and rebuttal briefs, must submit a written request to the Assistant Secretary for Enforcement and Compliance, U.S. Department of Commerce, filed electronically and received successfully in its entirety via ACCESS by 5:00 p.m. Eastern Time within 10 days after the date of publication of this notice.⁹ Hearing requests should contain: (1) the party's name, address, and telephone number; (2) the number of participants; (3) whether any participant is a foreign national; and (4) a list of the issues to be discussed. If a request for a hearing is made, Commerce intends to hold the hearing at a time and date to be determined. Parties should confirm by telephone the date, time, and location of the hearing two days before the scheduled date.

⁹ Commerce is exercising its discretion under 19 CFR 351.310(c) to alter the time limit for requesting a hearing.

Notification to Interested Parties

This notice is issued and published pursuant to section 517 of the Act and 19 CFR 351.227(e)(1).

Dated: June 16, 2023.
Abdelali Elouaradia,
Deputy Assistant Secretary for Enforcement and Compliance.

Appendix

List of Topics Discussed in the Preliminary Decision Memorandum

I. Summary

II. Background

III. Scope of the Order

IV. Description of Merchandise Subject to This Inquiry

V. Legal Framework

VI. Discussion of the Issues

VII. Recommendation

[FR Doc. 2023-13373 Filed 6-22-23; 8:45 am]

BILLING CODE 3510-DS-P